DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before December 6, 2007.

ADDRESSES: Written data or comments should be submitted to the U.S. Fish and Wildlife Service, Endangered Species Program Manager, California and Nevada Operations (CNO), 2800 Cottage Way, Room W-2606, Sacramento, California, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, at the above CNO address, (telephone: 760-431-9440; fax: 760-431-9624).

SUPPLEMENTARY INFORMATION: The following applicants have applied for scientific research permits to conduct certain activities with endangered species pursuant to section 10(a)(1)(A) of the Endangered Species Act (16 U.S.C. 1531 et. seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-028605

Applicant: SWCA Environmental Consultants, Flagstaff, Arizona.

The applicant requests an amendment to take (harass by survey) the Yuma clapper rail (Rallus longirostris yumanensis) in conjunction with surveys in California for the purpose of enhancing its survival.

Permit No. TE-166495

Applicant: Pacific Municipal Consultants, Rancho Cordova, California.

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-067990

Applicant: Barbie Dugan, Morro Bay, California.

The applicant requests an amendment take (relocate) the Morro shoulderband snail (Helminthoglypta walkeriana) in conjunction with habitat enhancement projects in San Luis Obispo County, California for the purposes for enhancing its survival.

Permit No. TE-166383

Applicant: Bureau of Land Management, Hollister, California.

The applicant requests a permit take (harass by survey, capture, handle, and release) the California tiger salamander (Ambystoma californiense) in conjunction with surveys throughout Contra Costa, Alameda, Santa Clara, San Mateo, Santa Cruz, San Benito, Monterey, San Joaquin, Stanislaus, Merced, and Fresno Counties, California, for the purpose of enhancing its survival.

Permit No. TE-166357

Applicant: Lee Ann Carranza, Capistrano Beach, California.

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-166393

Applicant: Peter C. Trenham, Davis, California.

The applicant requests a permit take (harass by survey, capture, handle, attach transmitters, and release) the California tiger salamander (Ambystoma californiense) in conjunction with ecological research and population monitoring throughout Alameda, Contra Costa, Kern, Madera, Merced, Monterey, Sacramento, San Benito, San Mateo, Santa Clara, Solano, Sonoma, Tulare, and Yolo Counties, California, for the purpose of enhancing its survival.

Permit No. TE-787644

Applicant: William J. Vanherweg, San Luis Obispo, California.

The applicant requests a permit to take (capture and release) the Tipton kangaroo rat (Dipodomys nitratoides nitratoides), Fresno kangaroo rat (Dipodomys nitratoides exilis), Giant kangaroo rat (Dipodomys ingens), Morro Bay kangaroo rat (Dipodomys heermanni), and the San Joaquin kit fox (Vulpes macrotis mutica) in conjunction with surveys throughout the range of the species in California for the purpose of enhancing their survival.

Permit No. TE-009015

Applicant: Jason Berkley, Chino, California.

The applicant requests an amendment to take (survey, capture, and release) the San Bernardino kangaroo rat (Dipodomys merriami parvus), unarmored threespine stickleback (Gasterosteus aculeatus williamsoni), mountain yellow-legged frog (Rana muscosa), and California tiger salamander (Ambystoma californiense) in conjunction with surveys for the purpose of enhancing their survival throughout the range of the species in California.

Permit No. TE-166940

Applicant: Heather C. Baker, Fresno, California.

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-068745

Applicant: Jeffrey T. Wilcox, Berkely, California.

The applicant requests a permit take (harass by survey, capture, handle, and release) the California tiger salamander (Ambystoma californiense) in conjunction with surveys throughout Contra Costa, Alameda, Santa Clara, San Mateo, Santa Cruz, San Benito, Monterey, San Joaquin, Stanislaus, Merced, and Fresno Counties, California, for the purpose of enhancing its survival.

Permit No. TE-067992

Applicant: Daniel S. Dugan, Morro Bay, California.

The applicant requests an amendment to take (survey, capture, and release) the tidewater goby (Eucyclogobius newberryi) in conjunction with surveys for the purpose of enhancing their survival throughout the range of the species in California.

Permit No. TE-832717

Applicant: Rodrick Dossey, San Diego, California.

The applicant requests an amendment to remove/reduce to possession Astragalus aristulatum var. parishii (San Diego button celery), Pogogyne abramsii (San Diego mesa mint), Pogogyne nudiuscula (Otay mesa mint), Orcuttia californica (California Orcutt grass), and Cordylanthus maritimus ssp. Maritimus (salt marsh bird's beak) from Federal lands in conjunction with surveys in San Diego and Imperial Counties, California, for the purpose of enhancing their survival.

Permit No. TE-085260

Applicant: Jeff Steinman, San Francisco, California.

The applicant requests an amendment to take (harass by survey, and nest monitor) the least Bell's vireo (Vireo bellii pusillus) in conjunction with surveys and monitoring throughout the range of the species in California, for the purpose of enhancing its survival.

Permit No. TE-167075

Applicant: Davinna L. Ohlson, San Jose, California.

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: October 31, 2007.
Michael Fris,
Acting Manager, California and Nevada Operations, Sacramento, California.

[FR Doc. E7-21768 Filed 11-5-07; 8:45 am]

BILLING CODE 4310-55-P